DEPARTMENT OF DEFENSE

Department of the Army, Corps of Engineers

Notice of Intent To Prepare Supplement II to the Final Environmental Impact Statement, Mississippi River and Tributaries (MR&T) Project, Mississippi River Mainline Levees and Channel Improvement

AGENCY: U.S. Army Corps of Engineers, DoD.

ACTION: Notice of Intent; extension of public comment period.

SUMMARY: USACE is announcing the public scoping meeting dates, times, and locations and extending the scoping comment period for the Notice of Intent (NOI) to prepare Supplement II (SEIS II) to the Final Environmental Impact Statement, Mississippi River and Tributaries (MR&T) Project, Mississippi River Mainline Levees and Channel Improvement of 1976 (1976 EIS), as updated and supplemented by Supplement No. 1, Mississippi River and Tributaries Project, Mississippi River Mainline Levee Enlargement and Seepage Control of 1998 (SEIS I) to the 1976 EIS. The NOI was published in the Federal Register on July 13, 2018. The public comment period on the NOI was scheduled to end on October 1, 2018. USACE is extending the comment period by 14 days and will now consider comments received through October 15, 2018.

DATES: The deadline for receipt of scoping comments is extended to October 15, 2018.

ADDRESSES: Written comments should be submitted: (1) To USACE at public scoping meetings; (2) by regular U.S. Mail mailed to: U.S. Army Corps of Engineers, ATTN: CEMVN-PDC-UDC, 167 North Main Street, Room B-202, Memphis, Tennessee 38103-1894; or (3) by email to: MRL-SEIS-2@usace.army.mil. Please include your name and return address on the first page of your written comments. All personally identifiable information voluntarily submitted by a commenter may be publicly accessible. Do not submit confidential business information or otherwise sensitive or protected information.

FOR FURTHER INFORMATION CONTACT: For direct questions about the NEPA process and upcoming scoping meetings please contact: Mr. Mike Thron, by mail at U.S. Army Corps of Engineers, ATTN: CEMVN-PDC-UDC, 167 North Main Street, Room B-202, Memphis, Tennessee 38103-1894; by telephone at (901) 544-0708; or by email at MRL-SEIS-2@usace.army.mil. Additional project and meeting information is also available at the Project website at: http://www.mvk.usace.army.mil/MRLSEIS/.

SUPPLEMENTARY INFORMATION: The dates, locations, and times of the public scoping meetings are:

1. September 10, 2018 at the Holiday Inn Blytheville, 1121 East Main Street, Blytheville, Arkansas 72315 from 7 p.m. to 9 p.m.

2. September 11, 2018 at the Vicksburg Convention Center, 1600 Mulberry Street, Vicksburg, Mississippi, 39180 from 7 p.m. to 9 p.m.

3. September 12, 2018 at the Louisiana Department of Environmental Quality, Room C111, 602 North 5th Street, Baton Rouge, Louisiana, 70802 from 7 p.m. to 9 p.m.

4. September 13, 2018 at United States Army Corps of Engineers, New Orleans District Headquarters District Assembly Room, 7400 Leake Avenue, New Orleans, Louisiana, 70118 from 7 p.m. to 9 p.m.

Dated: August 22, 2018.
Edward P. Lambert,
Chief, Environmental Compliance Branch, Regional Planning and Environmental Division South.

[FR Doc. 2018-18723 Filed 8-28-18; 8:45 am]

BILLING CODE 3720-58-P